DEPARTMENT OF ENERGY

Federal Energy Regulatory Commission

[Docket No. PF09-11-000 ]

TransCanada Alaska Company, LLC; Notice of Public Scoping Meetings for the Planned Alaska Pipeline Project

The staff of the Federal Energy Regulatory Commission (FERC or Commission) will conduct public scoping meetings as part of their preparation of an environmental impact statement (EIS) on the Alaska Pipeline Project (APP). The APP is a planned natural gas pipeline system that would transport gas produced on the Alaska North Slope to the Alaska-Canada border to connect with a pipeline system in Canada for onward delivery to markets in North America. The APP is being advanced jointly by TransCanada Alaska Company, LLC and ExxonMobil Alaska Midstream Gas Investments, LLC.

More information about the Commission's EIS and the APP is available in the Notice of Intent to Prepare an Environmental Impact Statement for the Planned Alaska Pipeline Project and Request for Comments on Environmental Issues (NOI), issued August 1, 2011. The NOI describes the scoping process that is under way seeking public participation in the environmental review of this planned project. The public scoping meetings, listed below, provide an opportunity to submit verbal comments in addition to, or in lieu of, written comments on issues of environmental concern related to the APP. Please note that the scoping period for the APP will close on February 27, 2012.

The NOI and additional information regarding the pre-filing review of this planned project is available from FERC's Office of External Affairs at (866) 208-FERC (3372) or on the FERC Web site (www.ferc.gov) using the eLibrary link. Click on the eLibrary link, click on “General Search,” and enter the docket number, excluding the last three digits in the Docket Number field (i.e., PF09-11). Be sure you have selected an appropriate date range. For assistance, please contact FERC Online Support at FERCOnlineSupport@ferc.gov or toll free at (866) 208-3676, or for TTY, contact (202) 502-8659.

Schedule and Locations for the APP Public Scoping Meetings
Date and time | Location
January 18, 2012, 7:00 p.m. | Dena'ina Center, Kahtu Room, 600 West 7th Avenue Anchorage, AK.
January 30, 2012, 7:00 p.m. | Carlson Center, Arthur Buswell Pioneer North Star Room, 2010 2nd Avenue Fairbanks, AK.
January 31, 2012, 7:00 p.m. | Delta Community Center, 2287 Deborah Street Delta Junction, AK.
February 1, 2012, 7:00 p.m. | Tok School, Multipurpose Room, Jon Summar Way Tok, AK.
February 6, 2012, 7:00 p.m. | Inupiat Heritage Center, Multipurpose Room, 5421 North Star Street Barrow, AK.
February 7, 2012, 7:00 p.m. | Kisik Community Center, 2230 2nd Avenue Nuiqsut, AK.
February 8, 2012, 4:30 p.m. | Kaktovik Community Center, 2051 Barter Avenue Kaktovik, AK.

Dated: December 9, 2011.
Kimberly D. Bose,
Secretary.

[FR Doc. 2011-32383 Filed 12-16-11; 8:45 am]

BILLING CODE 6717-01-P